DEPARTMENT OF EDUCATION

Applications for New Awards; Technical Assistance and Dissemination To Improve Services and Results for Children With Disabilities—National Technical Assistance Center for Systemic Improvement

AGENCY: Office of Special Education and Rehabilitative Services, Department of Education.

ACTION: Notice.

SUMMARY: The mission of the Office of Special Education and Rehabilitative Services (OSERS) is to improve early childhood, educational, and employment outcomes and raise expectations for all people with disabilities, their families, their communities, and the Nation. As such, the Department of Education (Department) is issuing a notice inviting applications for new awards for fiscal year (FY) 2019 for a National Technical Assistance Center for Systemic Improvement, Catalog of Federal Domestic Assistance (CFDA) number 84.326R. This Center will provide differentiated support to States to help them best use their general supervision and professional development (PD) systems to establish and meet high expectations for each child with a disability. This notice relates to the approved information collection under OMB control number 1820-0028.

DATES:

Applications Available: August 8, 2019.

Deadline for Transmittal of Applications: September 9, 2019.

Pre-Application Webinar Information: No later than August 13, 2019, OSERS will post pre-recorded informational webinars designed to provide technical assistance (TA) to interested applicants. The webinars may be found at www2.ed.gov/fund/grant/apply/osep/new-osep-grants.html.

Pre-Application Q & A Blog: No later than August 13, 2019, OSERS will open a blog where interested applicants may post questions about the application requirements for this competition and where OSERS will post answers to the questions received. OSERS will not respond to questions unrelated to the application requirements for this competition. The blog may be found at www2.ed.gov/fund/grant/apply/osep/new-osep-grants.html and will remain open until August 27, 2019. After the blog closes, applicants should direct questions to the person listed under FOR FURTHER INFORMATION CONTACT.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Perry Williams, U.S. Department of Education, 400 Maryland Avenue SW, Room 5131, Potomac Center Plaza, Washington, DC 20202-5076. Telephone: (202) 245-7575. Email: Perry.Williams@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Technical Assistance and Dissemination to Improve Services and Results for Children with Disabilities program is to promote academic achievement and to improve results for children with disabilities by providing TA, supporting model demonstration projects, disseminating useful information, and implementing activities that are supported by scientifically based research.

Priority: This competition includes one absolute priority.

In accordance with 34 CFR 75.105(b)(2)(v), this priority is from allowable activities specified in the statute (see sections 663 and 681(d) of the Individuals with Disabilities Education Act (IDEA); 20 U.S.C. 1463 and 1481(d)).

Absolute Priority: For FY 2019 and any subsequent year in which we make awards from the list of unfunded applications from this competition, this priority is an absolute priority. Under 34 CFR 75.105(c)(3), we consider only applications that meet this priority.

This priority is:

National Technical Assistance and Dissemination Center for Systemic Improvement (Center).

Background:

The Department has worked extensively with States to ensure meaningful access to special education and related services for children with disabilities (CWD) and has noted significant improvements in compliance with the IDEA requirements over the last decade. However, educational outcomes in reading and math, as well as graduation rates, for CWD continue to lag those of children without disabilities. Results of the 2017 National Assessment of Educational Progress (NAEP) in reading and mathematics show the performance of students with disabilities, excluding those with a 504 plan, to be significantly lower than the performance of students without disabilities. In fact, since 2009, performance of students with disabilities, excluding those with a 504 plan, has decreased in 4th and 8th grade mathematics and 4th grade reading. Even where performance improved on the 8th grade reading assessment, the gap between students with disabilities, excluding those with a 504 plan, and those without disabilities increased from 2009 to 2017. Recent data from 2016 to 2017 show that high school graduation rates for all children was 85 percent while the graduation rate for CWD was 66 percent (National Center for Education Statistics, 2019).

States have an important role to play in increasing equal opportunity and improving educational outcomes for CWD, and in reducing the persistent gaps in performance between children with and without disabilities (Tomasello & Brand, 2018). The Elementary and Secondary Education Act of 1965 (ESEA), as amended by the Every Student Succeeds Act of 2015 (ESSA), and the IDEA, reauthorized in 2004, provide States the opportunity to align State plans, priorities, support to local educational agencies (LEAs), and multiple existing efforts across general and special education programs to help close achievement gaps and improve educational outcomes for all children, including CWD.

ESSA contains several key provisions that align with IDEA. States can align ESSA and IDEA implementation efforts to ensure that they—

(1) Effectively support children with the most significant cognitive disabilities to increase access to the general education curriculum;

(2) Maintain inclusion of all CWD in accountability systems;

(3) Promote the use of evidence-based ¹ practices (EBPs) to provide intervention and support to LEAs in need of improvement; and

¹ For the purposes of this priority, “evidence-based” means, at a minimum, evidence that demonstrates a rationale (as defined in 34 CFR 77.1), where a key project component included in the project's logic model is informed by research or evaluation findings that suggest the project component is likely to improve relevant outcomes.

(4) Include meaningful and authentic stakeholder engagement in all aspects of the planning and implementation process (National Council on Disability, 2018).

Additionally, ESSA and IDEA underscore the importance of a shared, integrated, and systemic approach to supporting LEAs and schools, and they provide States with a framework to design their accountability systems to improve outcomes for all children. In 2012, OSEP shifted its accountability framework from a predominant focus on compliance with Federal regulations toward an approach of monitoring and supporting States' implementation of both the results and compliance provisions of IDEA, termed Results-Driven Accountability (RDA).²

² Results-Driven Accountability includes three components: (1) The State Performance Plan (SPP)/Annual Performance Report (APR); (2) annual State determinations; and (3) differentiated monitoring and support.

RDA has provided States with an increased opportunity to rethink, reshape, and refocus the components of their general supervision system ³ by incorporating and using child-level results data to inform decisions related to monitoring, local determinations, and other accountability efforts. One of the major components of RDA within the State Performance Plan (SPP)/Annual Performance Report (APR) that has garnered support and interest from States is the State Systemic Improvement Plan (SSIP). Each State was required to submit an SSIP as part of its SPP/APR beginning in Federal Fiscal Year 2013. Each State identified a State Identified Measurable Result (SIMR) under Part B of IDEA. The SSIP contains three phases: (1) Analysis of data and other information to provide a foundation for the SSIP; (2) development of the plan to improve results; and (3) implementation and evaluation of the plan. States are using the SSIP, a comprehensive, multiyear plan that is focused on improving a SIMR, to leverage resources and enhance their infrastructure and better implement IDEA with an emphasis on improving outcomes for CWD in State-selected areas such as reading, mathematics, or graduation. Each phase of the SSIP requires stakeholder engagement for decision-making and prioritizing outcomes.

³ “General supervision system” refers to a State's system for ensuring compliance and improving results and includes the SPP; policies, procedures, and effective implementation; integrated monitoring activities; fiscal management; data on processes and results; improvement, correction, incentives, and sanctions; effective dispute resolution; and targeted TA and professional development.

All States have developed their SSIPs and are now heavily engaged in capacity-building efforts to implement and evaluate improvement efforts and report progress under four main elements of the SSIP Phase III report, which are: (1) Data collection, analysis, and use to inform decision-making; (2) development of infrastructure improvement strategies necessary to support, sustain, and scale-up system improvement efforts; (3) selection and use of EBPs that are implemented with fidelity; and (4) engagement of diverse stakeholders to implement key improvement strategies and inform decision-making within the State system. These elements also align with key capacity-building components of ESSA implementation.

OSEP's review of States' submitted SSIPs in 2018 and a National Center for Learning Disabilities (NCLD) report, Assessing ESSA: Missed Opportunities for Children with Disabilities, indicate there are still multiple challenges that affect States' abilities to successfully align and implement their ESSA State plans and establish strong comprehensive accountability systems to support schools that struggle to improve results for CWD (NCLD, 2018).

Specifically, those challenges include tracking implementation of EBPs and determining whether they have been implemented with fidelity, high turnover rates of staff at various levels across the State educational agency (SEA) and in LEAs, effective systems alignment with general education efforts, supporting LEAs in selecting and implementing EBPs to meet the needs of children with increasingly high intensity and complex needs (e.g., exposure to opioids), establishing multi-tiered systems of support (MTSS) to provide differentiated TA to LEAs, evaluation of their SSIPs' infrastructure improvement strategies, leveraging fiscal systems to achieve desired outcomes, designing and implementing professional development that meets the individual needs of teachers, and revising general supervision systems to include results as an integral component.

The Center will engage in collaborative TA activities with other Department-funded TA centers, and it will broaden, deepen, and facilitate systems alignment within State programs and engagement with existing State TA and PD systems. In addition, the Center will assist SEAs with ensuring stakeholder engagement and support to meet shared goals and identify and remove barriers for improving results for CWD. The Center must be operated in a manner consistent with nondiscrimination requirements contained in the U.S. Constitution and Federal civil rights laws.

Further, we acknowledge that States are in the best position to determine implementation of their programs, and as such, the Center will be required to customize its TA to meet each State's specific identified needs and leverage their resources to meet those needs.

Priority:

The purpose of this priority is to fund a cooperative agreement to establish and operate a National Technical Assistance Center for Systemic Improvement (Center). The Center must achieve, at a minimum, the following expected outcomes:

(a) Increased capacity of SEAs to align with broader general education initiatives to ensure ESSA and IDEA implementation best supports the needs of CWD;

(b) Increased capacity of SEAs to effectively implement their general supervision systems that serve to improve results for CWD, while maintaining compliance with the IDEA;

(c) Increased capacity of SEAs to effectively implement, evaluate, and revise (as necessary) their SSIPs and ensure progress toward meeting their SIMR;

(d) Increased effectiveness of SEAs in meaningfully and authentically engaging diverse State (including State-level partnerships) ⁴ and local stakeholders in ways that will support the effective implementation of ESSA and IDEA;

⁴ For the purposes of this priority, “State-level partnerships” refers to State affiliates of nationally recognized professional and family networks that form an infrastructure for policy development, dissemination of information, interaction, and learning.

(e) Increased capacity of SEAs to support LEAs in selecting and implementing EBPs within frameworks (e.g., MTSS such as positive behavioral interventions and supports (PBIS), response to intervention (RTI), and others);

(f) Increased capacity of SEAs to fully engage families, including partnerships with OSEP-funded parent centers and the Office of Elementary and Secondary Education (OESE) Statewide Family Engagement Centers in the implementation of systemic improvement efforts;

(g) Increased capacity of SEAs to deliver effective TA to LEAs using an aligned TA model grounded in implementation and improvement sciences through collaboration with OSEP-funded TA centers; and

(h) Improved access to objective information for families and youth with disabilities on the range of quality educational options ⁵ and supports.

⁵ For the purpose of this priority, “educational options” means the opportunity for a child or student (or a family member on their behalf) to create a high-quality personalized path for learning that is consistent with applicable Federal, State, and local laws; is in an educational setting that best meets the child's or student's needs; and, where possible, incorporates evidence-based activities, strategies, or interventions. Opportunities made available to a child or student through a grant program are those that supplement what is provided by a child's or student's geographically assigned school or the institution in which he or she is currently enrolled and may include one or more of the following options: (1) Public educational programs or courses, including those offered by traditional public schools, public charter schools, public magnet schools, public online education providers, or other public education providers; (2) Private or home-based educational programs or courses, including those offered by private schools, private online providers, private tutoring providers, community or faith-based organizations, or other private education providers; (3) Part-time coursework or career preparation, offered by a public or private provider in person or through the internet or another form of distance learning, that serves as a supplement to full-time enrollment at an educational institution, as a stand-alone program leading to a credential, or as a supplement to education received in a homeschool setting; and (4) Other educational services, including credit-recovery, accelerated learning, or tutoring.

Note: The OSEP-funded TA related to young children (ages birth through five) with disabilities, and the IDEA Part C and Part B section 619 programs, will primarily be provided by the centers funded under CFDA numbers 84.325B, 84.326B, 84.326P, and 84.373Z. This Center will focus on providing TA to SEAs to implement Part B of the IDEA, which serves children ages 3 through 21, and will develop products or provide TA to SEAs on issues that impact the entire Part B system, such as general supervision or SSIP implementation. Consequently, this Center generally will respond to a State request for products or TA on issues solely associated with CWD ages birth through 5, such as preschool least restrictive environments, early childhood outcomes, and early childhood transition, by referring the State to one or more other OSEP-funded centers that focus on such issues.

In addition to these programmatic requirements, to be considered for funding under this priority, applicants must meet the application and administrative requirements in this priority, which are:

(a) Demonstrate, in the narrative section of the application under “Significance,” how the proposed project will—

(1) Address the current and emerging needs of SEAs to meet ESSA and IDEA requirements by aligning structures and improving processes within and across levels of the system to support the implementation and evaluation of their State plans; appropriately apply coherent improvement strategies, based on thorough data analyses, that are aligned to current efforts to improve outcomes for all CWD; provide effective TA on how to implement EBPs with fidelity; meaningfully and authentically engage diverse stakeholders (including State-level partnerships); assist States in evaluating their implementation efforts and their impact; and ensure the effective implementation of their results-based general supervision systems to support effective implementation of the IDEA.

To meet this requirement the applicant must—

(i) Demonstrate knowledge of current educational issues and policy initiatives relating to ongoing challenges with implementing ESSA and IDEA alignment efforts by SEAs to target and support LEA improvement efforts;

(ii) Present information and data about the current capacity of SEAs to support systemic change, and how the Center will address this challenge to enhance SEA capacity to support LEAs to implement, scale-up, and sustain EBPs with fidelity;

(iii) Demonstrate knowledge of current educational issues and policy initiatives and the range of quality educational options that may be available in States to families of CWD and how the Center will provide TA and information dissemination to SEAs that increase opportunities and outcomes for CWD and their families;

(iv) Describe how the Center will engage diverse stakeholders (including State-level partnerships), local stakeholders, and Department-funded parent and statewide family engagement centers in the SEAs' decision-making processes to ensure effective implementation and evaluation of the SSIP and other State initiatives that establish high expectations and improved outcomes for CWD; and

(v) Identify and engage with existing State TA and dissemination systems to assist the Center with supporting statewide systemic improvement efforts.

(2) Improve SEA infrastructure (e.g., governance, fiscal systems, quality standards, PD, data sharing and analysis, TA, and accountability/monitoring) so SEAs can effectively implement the IDEA and their SSIPs. Applicants must indicate the likely magnitude or importance of the improvements.

(3) Collaborate and engage with other Department and OSEP-funded TA Centers (e.g., PBIS Center; Collaboration for Effective Educator Development, Accountability, and Reform (CEEDAR) Center; and the State Implementation and Scaling-up of Evidence-based Practices (SISEP) Center) to incorporate a problem-solving logic and multi-tiered approach in the TA provided to SEAs to address equity issues and effectively and efficiently support the implementation of SSIPs and improve States' general supervision systems.

(b) Demonstrate, in the narrative section of the application under “Quality of the project services,” how the proposed project will—

(1) Ensure equal access and treatment for members of groups that have traditionally been underrepresented based on race, color, national origin, gender, age, or disability. To meet this requirement, the applicant must describe how it will—

(i) Identify the needs of the intended recipients for TA and information; and

(ii) Ensure that services and products meet the needs of the intended recipients of the grant;

(2) Achieve its goals, objectives, and intended outcomes. To meet this requirement, the applicant must provide—

(i) Measurable intended project outcomes; and

(ii) In Appendix A, the logic model ⁶ by which the proposed project will achieve its intended outcomes that depicts, at a minimum, the goals, activities, outputs, and intended outcomes of the proposed project;

⁶ Logic model (as defined in 34 CFR 77.1) (also referred to as a theory of action) means a framework that identifies key project components of the proposed project (i.e., the active “ingredients” that are hypothesized to be critical to achieving the relevant outcomes) and describes the theoretical and operational relationships among the key project components and relevant outcomes.

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: www.osepideasthatwork.org/logicModel and www.osepideasthatwork.org/resources-grantees/program-areas/ta-ta/tad-project-logic-model-and-conceptual-framework.

(4) Be based on current research and make use of EBPs. To meet this requirement, the applicant must describe—

(i) The current research on the assessment of infrastructure development that builds capacity in SEAs and LEAs to implement, scale-up, and sustain the use of EBPs;

(ii) The current research about adult learning principles, as well as implementation and improvement science, that will inform the proposed TA; and

(iii) How the proposed project will incorporate current research and EBPs in the development and delivery of its products and services;

(5) Develop products and provide services that are of high quality and sufficient intensity and duration to achieve the intended outcomes of the proposed project. To address this requirement, the applicant must describe—

(i) How it proposes to identify or develop the knowledge base on how to implement components of a comprehensive SSIP and effective general supervision and PD systems;

(ii) Its proposed approach to universal, general TA,⁷ which must identify the intended recipients, including the type and number of recipients, that will receive the products and services, a description of the products and services that the Center proposes to make available, and the expected impact of those products and services under this approach;

⁷ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(iii) Its proposed approach to targeted, specialized TA,⁸ which must identify—

⁸ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services, a description of the products and services that the Center proposes to make available, and the expected impact of those products and services under this approach; and

(B) Its proposed approach to measure the readiness of potential TA recipients to work with the project, assessing, at a minimum, their current infrastructure, available resources, and ability to build capacity at the local level; and

(iv) Its proposed approach to intensive, sustained TA,⁹ which must identify—

⁹ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients, that will receive the products and services, a description of the products and services that the Center proposes to make available, and the expected impact of those products and services under this approach;

(B) Its proposed approach to measure the readiness of SEAs to work with the project, including their commitment to the initiative, alignment of the initiative to their needs, current infrastructure, available resources, and ability of the SEAs to build capacity at the local level;

(C) Its proposed plan to prioritize TA recipients whose most recent annual determination by the Secretary was that the State needs intervention under section 616(d)(2)(A)(iii) of IDEA or needs substantial intervention under section 616(d)(2)(A)(iv) of IDEA in implementing the requirements of Part B of IDEA.

(C) Its proposed plan for assisting SEAs to build or enhance PD systems based on adult learning principles and that include sustained coaching; and

(D) Its proposed plan for working with appropriate levels of the education system (e.g., SEAs, educational service agencies (ESAs), LEAs, other TA providers, parents and families) to ensure that there is communication between each level and that there are systems in place to support implementation of EBPs;

(6) Develop products and implement services that maximize efficiency. To address this requirement, the applicant must describe—

(i) How the proposed project will use technology to achieve the intended project outcomes;

(ii) With whom the proposed project will collaborate and the intended outcomes of this collaboration, which must include—

(A) How the proposed project will collaborate with other Department and OSEP-funded TA centers working with SEAs to effectively support the implementation of SSIPs and improve States' general supervision; and

(B) How the proposed project will collaborate with OSEP-funded TA centers working in early childhood systems to align TA on infrastructure development and system improvement efforts between early childhood agencies and the SEA; and

(iii) How the proposed project will use non-project resources to achieve the intended project outcomes.

In the narrative section of the application under “Quality of the evaluation plan,” include an evaluation plan for the project as described in the following paragraphs.

The evaluation plan must describe: Measures of progress in implementation, including the criteria for determining the extent to which the project's products and services have met the goals for reaching its target population; measures of intended outcomes or results of the project's activities in order to evaluate those activities; and how well the goals or objectives of the proposed project, as described in its logic model, have been met.

The applicant must provide an assurance that, in designing the evaluation plan, it will—

(1) Designate, with the approval of the OSEP project officer, a project liaison staff person with sufficient dedicated time, experience in evaluation, and knowledge of the project to work in collaboration with the Center to Improve Program and Project Performance (CIP3),¹⁰ the project director, and the OSEP project officer on the following tasks:

¹⁰ The major tasks of CIP3 are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIP3 are expected to enhance individual project evaluation plans by providing expert and unbiased TA in designing the evaluations with due consideration of the project's budget. CIP3 does not function as a third-party evaluator.

(i) Revise, as needed, the logic model submitted in the application to provide for a more comprehensive measurement of implementation and outcomes and to reflect any changes or clarifications to the model discussed at the kick-off meeting;

(ii) Refine the evaluation design and instrumentation proposed in the application consistent with the logic model (e.g., prepare evaluation questions about significant program processes and outcomes; develop quantitative or qualitative data collections that permit both the collection of progress data, including fidelity of implementation, as appropriate, and the assessment of project outcomes; and identify analytic strategies); and

(iii) Revise, as needed, the evaluation plan submitted in the application such that it clearly—

(A) Specifies the measures and associated instruments or sources for data appropriate to the evaluation questions, suggests analytic strategies for those data, provides a timeline for conducting the evaluation, and includes staff assignments for completing the plan;

(B) Delineates the data expected to be available by the end of the second project year for use during the project's evaluation (3+2 review) for continued funding described under the heading Fourth and Fifth Years of the Project; and

(C) Can be used to assist the project director and the OSEP project officer, with the assistance of CIP3, as needed, to specify the performance measures to be addressed in the project's Annual Performance Report;

(2) Cooperate with CIP3 staff in order to accomplish the tasks described in paragraph (1) of this section; and

(3) Dedicate sufficient funds in each budget year to cover the costs of carrying out the tasks described in paragraphs (1) and (2) of this section and implementing the evaluation plan.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual planning meeting, with the OSEP project officer and other relevant staff during each subsequent year of the project period.

Note: Within 30 days of receipt of the award, a post-award teleconference must be held between the OSEP project officer and the grantee's project director or other authorized representative;

(ii) A two and one-half day project directors' conference in Washington, DC, during each year of the project period;

(iii) Two annual trips to attend Department briefings, Department-sponsored conferences, and other meetings, as requested by OSEP; and

(iv) A one-day intensive 3+2 review meeting during the last half of the second year of the project period;

(3) Include, in the budget, a line item for an annual set-aside of five percent of the grant amount to support emerging needs that are consistent with the proposed project's intended outcomes, as those needs are identified in consultation with, and approved by, the OSEP project officer. With approval from the OSEP project officer, the project must reallocate any remaining funds from this annual set-aside no later than the end of the third quarter of each budget period;

(4) Maintain a high-quality website, with an easy-to-navigate design, that meets government or industry-recognized standards for accessibility;

(5) Ensure that annual progress toward meeting project goals is posted on the project website; and

(6) Include, in Appendix A, an assurance to assist OSEP with the transfer of pertinent resources and products and to maintain the continuity of services to TA recipients during the transition to this new award period and at the end of this award period, as appropriate.

Fourth and Fifth Years of the Project:

In deciding whether to continue funding the project for the fourth and fifth years, the Secretary will consider the requirements of 34 CFR 75.253(a), as well as—

(a) The recommendation of a 3+2 review team consisting of experts selected by the Secretary. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances or a failure to make substantial progress. The Department intends to closely monitor unobligated balances and substantial progress under this program and may reduce or discontinue funding accordingly.

References:

National Center for Learning Disabilities (NCLD). (2018). Accessing ESSA: Missed opportunities for children with disabilities. Retrieved from www.ncld.org/archives/action-center/what-we-ve-done/new-report-assessing-essa-missed-opportunities-for-children-with-disabilities.

National Council on Disabilities (NCD). (2018). (IDEA series) Every Student Succeeds Act and students with disabilities. Retrieved from https://ncd.gov/sites/default/files/NCD_ESSA-SWD_Accessible.pdf.

Snyder, T.D., de Brey, C., & Dillow, S.A. (2019). Digest of Education Statistics 2017 (NCES 2018-070). National Center for Education Statistics, Institute of Education Sciences, U.S. Department of Education. Washington, DC. Retrieved from https://nces.ed.gov/pubs2018/2018070.pdf.

Tomasello, J., & Brand, B. (2018). American Youth Policy Forum (AYPF). How ESSA and IDEA can support college and career readiness for children with disabilities: Considerations for States. Retrieved from www.aypf.org/resource/publication-essa-idea-ccr-2018/. U.S. Department of Education, Institute of Education Sciences, National Center for Education Statistics. (2017). National Assessment of Educational Progress (NAEP) reading assessments. Accessed through the NAEP Data Explorer at http://nces.ed.gov/nationsreportcard/naepdata/.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1463 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreement.

Estimated Available Funds: $6,250,000.

Contingent upon the availability of funds and the quality of applications, we may make additional awards in FY 2020 from the list of unfunded applications from this competition.

Maximum Award: We will not make an award exceeding $31,250,000 for a project period of 60 months.

Note: Applicants must describe, in their applications, the amount of funding being requested for each 12-month budget period.

Estimated Number of Awards: 1.

Note: The Department is not bound by any estimates in this notice.

Project Period: Up to 60 months.

III. Eligibility Information

1. Eligible Applicants: SEAs; LEAs, including public charter schools that operate as LEAs under State law; IHEs; other public agencies; private nonprofit organizations; freely associated States and outlying areas; Indian Tribes or Tribal organizations; and for-profit organizations.

2. Cost Sharing or Matching: This program does not require cost sharing or matching.

3. Subgrantees: A grantee under this competition may not award subgrants to entities to directly carry out project activities described in its application. Under 34 CFR 75.708(e), a grantee may contract for supplies, equipment, and other services in accordance with 2 CFR part 200.

4. Other: (a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This competition is subject to Executive Order 12372 and the regulations in 34 CFR part 79. However, under 34 CFR 79.8(a), we waive intergovernmental review in order to make an award by the end of FY 2019.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 70 pages and (2) use the following standards:

• A “page” is 8.5″ x 11″, on one side only, with 1″ margins at the top, bottom, and both sides.

• Double space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project.

(iii) The extent to which the proposed project is supported by promising evidence (as defined in 34 CFR 77.1(c)).

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(vi) The adequacy of mechanisms for ensuring high-quality products and services from the proposed project.

(c) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(iv) The extent to which the methods of evaluation include the use of objective performance measures that are clearly related to the intended outcomes of the project and will produce quantitative and qualitative data to the extent possible.

(d) Adequacy of resources and quality of project personnel (15 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The qualifications, including relevant training and experience, of project consultants or subcontractors.

(iv) The qualifications, including relevant training, experience, and independence, of the evaluator.

(v) The adequacy of support, including facilities, equipment, supplies, and other resources, from the applicant organization or the lead applicant organization.

(vi) The relevance and demonstrated commitment of each partner in the proposed project to the implementation and success of the project.

(vii) The extent to which the budget is adequate to support the proposed project.

(viii) The extent to which the costs are reasonable in relation to the objectives, design, and potential significance of the proposed project.

(e) Quality of the management plan (25 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under the Government Performance and Results Act of 1993, the Department has established a set of performance measures, including long-term measures, that are designed to yield information on various aspects of the effectiveness and quality of the Technical Assistance and Dissemination to Improve Services and Results for Children with Disabilities program. These measures are:

• Program Performance Measure #1: The percentage of Technical Assistance and Dissemination products and services deemed to be of high quality by an independent review panel of experts qualified to review the substantive content of the products and services.

• Program Performance Measure #2: The percentage of Special Education Technical Assistance and Dissemination products and services deemed by an independent review panel of qualified experts to be of high relevance to educational and early intervention policy or practice.

• Program Performance Measure #3: The percentage of all Special Education Technical Assistance and Dissemination products and services deemed by an independent review panel of qualified experts to be useful in improving educational or early intervention policy or practice.

• Program Performance Measure #4: The cost efficiency of the Technical Assistance and Dissemination Program includes the percentage of milestones achieved in the current annual performance report period and the percentage of funds spent during the current fiscal year.

• Long-term Program Performance Measure: The percentage of States receiving Special Education Technical Assistance and Dissemination services regarding scientifically or evidence-based practices for infants, toddlers, children, and youth with disabilities that successfully promote the implementation of those practices in school districts and service agencies.

The measures apply to projects funded under this competition, and grantees are required to submit data on these measures as directed by OSEP.

Grantees will be required to report information on their project's performance in annual and final performance reports to the Department (34 CFR 75.590).

The Department will also closely monitor the extent to which the products and services provided by the Center meet needs identified by stakeholders and may require the Center to report on such alignment in their annual and final performance reports.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW, Room 5081A, Potomac Center Plaza, Washington, DC 20202-5076. Telephone: (202) 245-7363. If you use a TDD or a TTY, call the FRS, toll free, at 1-800-877-8339.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Dated: August 6, 2019.
Laurie VanderPloeg,
Director, Office of Special Education Programs.

[FR Doc. 2019-17059 Filed 8-6-19; 4:15 pm]

BILLING CODE 4000-01-P